OFFICE OF THE UNITED STATES TRADE REPRESENTATIVE

Rectification to the Harmonized Tariff Schedule of the United States

AGENCY: Office of the United States Trade Representative

ACTION: Notice of rectification to the Harmonized Tariff Schedule of the United States.

SUMMARY: The United States Trade Representative (the USTR) is providing notice of certain technical rectifications to subheadings in chapter 2 of the Harmonized Tariff Schedule of the United States (HTS) pursuant to authority granted by Congress to the President in section 604 of the Trade Act of 1974 and delegated to the USTR in Presidential Proclamation No. 6969 of January 27, 1997 (62 FR 4415). These rectifications will correct omissions that occurred when the HTS was modified to reflect the Uruguay Round conversion of the U.S. quota on beef to a tariff-rate quota and will ensure that the United States continues to meet its obligations under the Canada-U.S. Free Trade Agreement and the North American Free Trade Agreement with respect to goods of Canada, under the terms of general note 12 to the HTS, that are classified in HTS subheadings relating to meat from bovine animals.

DATES: The effective date of the rectifications is January 1, 1995, for all goods entered, or withdrawn from warehouse for consumption, under the specified HTS subheadings, for which the liquidation of duties has not become final under 9 U.S.C. 1514.

FOR FURTHER INFORMATION CONTACT: Mark Sloan, Office of Agricultural Affairs, Office of the U.S. Trade Representative, 600 17th Street, N.W., Washington, D.C. 20508, (202) 395-6127.

SUPPLEMENTARY INFORMATION: As part of the Canada-U.S. Free Trade Agreement and the North American Free Trade Agreement, the United States agreed to provide Canada duty-free treatment for meat of bovine animals classified in chapter 2 of the HTS under tariff headings 0201 and 0202 and constituting goods of Canada, under the terms of general note 12 to the HTS. Duty-free treatment for meat from bovine animals comprising goods of Canada commenced on January 1, 1994. However, when the HTS was modified in 1995 to reflect the creation of a U.S. tariff-rate quota consistent for beef with the World Trade Organization Agreement on Agriculture, the tariff subheadings related to imports of meat from bovine animals not included in the United States tariff-rate quota, which is set forth in additional U.S. note 3 to chapter 2 of the HTS, were inadvertently not modified to provide Canada a special rate of duty of “free” for six tariff subheadings in the HTS: 0201.10.50; 0201.20.80; 0201.30.80; 0202.10.50; 0202.20.80; and 0202.30.80. This notice rectifies that omission in the HTS and reflects the duty-free treatment that should be accorded to meat of bovine animals, the foregoing being goods of Canada under the terms of general note 12 to the HTS, not covered by the tariff-rate quota set forth in additional U.S. note 3 to chapter 2 of the HTS. Duty-free treatment for beef from bovine animals that comprises goods of Canada is already provided for in the HTS.

Proclamation 6969 of January 27, 1997 (62 FR 4415, January 29, 1997) authorized the United States Trade Representative (USTR) to exercise the authority provided to the President under section 604 of the Trade Act of 1974, as amended by Public Law 100-418, 88 Stat. 2073 (19 U.S.C. 2483), to embody in the HTS the substance of the relevant provisions of that Act, and of other acts affecting import treatment, and actions thereunder, including rectifications, technical or conforming changes, or similar modifications in the HTS. Under authority vested in the USTR by Proclamation 6969 and the authority vested in the President by the Constitution and the laws of the United States, including, but not limited to, section 604 of the Trade Act of 1974, the United States-Canada Free-Trade Agreement Implementation Act of 1988, P.L. 100-449 (19 U.S.C. 2112 note), and the North American Free-Trade Agreement Implementation Act, P.L. 103-182 (19 U.S.C. 3301 et seq.), the following subheadings of chapter 2 of the Harmonized Tariff Schedule of the United States are modified by inserting, in the Rates of Duty1-Special subcolumn in the parentheses following the “Free” rate of duty the symbol “CA” in alphabetical order: 0201.10.50; 0201.20.80; 0201.30.80; 0202.10.50; 0202.20.80; and 0202.30.80. This modification to the identified HTS subheadings shall be effective with respect to goods of Canada that are entered, or withdrawn from warehouse for consumption, on or after January 1, 1995, for which the liquidation of duties has not become final under 19 U.S.C. 1514.

The tariff rectification and duty treatment provided herein shall be applicable to the aforementioned entries of goods under the specified HTS subheadings provided that the importer supplies any information that may be requested by the United States Customs Service to permit identification of each such entry (including, but not limited to, the entry number for the shipment concerned).

Robert T. Novick,
Acting United States Trade Representative.

[FR Doc. 00-7616 Filed 3-27-00; 8:45 am]

BILLING CODE 3190-01-M